DEPARTMENT OF HEALTH AND HUMAN SERVICES

Centers for Disease Control and Prevention

[60-Day 10-0214]

Proposed Data Collections Submitted for Public Comment and Recommendations

In compliance with the requirement of Section 3506(c) (2)(A) of the Paperwork Reduction Act of 1995 for opportunity for public comment on proposed data collection projects, the Centers for Disease Control and Prevention (CDC) will publish periodic summaries of proposed projects. To request more information on the proposed project or to obtain a copy of data collection plans and instruments, call the CDC Reports Clearance Officer on 404-639-5960 or send comments to CDC Assistant Reports Clearance Officer, 1600 Clifton Road, MS D-74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including the use of automated collection techniques or other forms of information technology. Written comments should be received within 60 days of this notice.

Proposed Project

National Health Interview Survey (NHIS), (OMB No. 0920-0214)—Revision—National Center for Health Statistics (NCHS), Centers for Disease Control and Prevention (CDC).

Background and Brief Description

Section 306 of the Public Health Service (PHS) Act (42 U.S.C. 242k), as amended, authorizes that the Secretary of Health and Human Services (DHHS), acting through NCHS, shall collect statistics on the extent and nature of illness and disability of the population of the United States.

The annual National Health Interview Survey (NHIS) is a major source of general statistics on the health of the U.S. population and has been in the field continuously since 1957. On January 4, 2010, the Office of Management and Budget (OMB) approved data collection for the 2010, 2011, and 2012 surveys. This revision is to notify the public that the President's fiscal year 2011 budget requests that Congress consider a budget increase for this survey for 2011. If the budget increase is approved by Congress, expanded data collection will begin in the first calendar quarter of 2011 or as soon thereafter as is possible. A maximum sample increase of approximately 23 percent (from 35,000 participating households to approximately 43,000 households) is requested. Currently the NHIS produces National and regional estimates with some estimates available for a limited number of States. If the full budget increase is approved by Congress, the survey will be able to produce a larger number of estimates for approximately 30 additional States and key population subgroups.

Congress may approve all, some or none of the budget increase requested in the President's budget. If approved, this notice would allow the proposed request for a sample increase to move forward to OMB for final review in sufficient time to implement the sample increase in the first quarter of 2011. This notice also covers increases in sample size that might result due to other budget allocations.

This voluntary household-based survey collects demographic and health-related information on a nationally representative sample of persons and households throughout the country. Information is collected using computer assisted personal interviews (CAPI). A core set of data is collected each year while sponsored supplements vary from year to year. Personal identification information is requested from survey respondents to facilitate linkage of survey data with health related administrative and other records.

In accordance with the 1995 initiative to increase the integration of surveys within the Department of Health and Human Services, respondents to the NHIS serve as the sampling frame for the Medical Expenditure Panel Survey conducted by the Agency for Healthcare Research and Quality. The NHIS has long been used by government, university, and private researchers to evaluate both general health and specific issues, such as cancer, diabetes, and access to health care. It is a leading source of data for the Congressionally-mandated “Health US” and related publications, as well as the single most important source of statistics to track progress toward the National Health Promotion and Disease Prevention Objectives, “Healthy People 2010.” This submission requests approval for three years.

There is no cost to the respondents other than their time.

Annualized Burden Table
Questionnaire (respondent) | Number of respondents | Number of responses per respondent | Average burden per respondent in hours | Total burden in hours
Screener Questionnaire | 13,000 | 1 | 5/60 | 1,083
Family Core (adult family member) | 43,000 | 1 | 23/60 | 16,483
Adult Core (sample adult) | 32,500 | 1 | 14/60 | 7,583
Child Core (adult family member) | 13,000 | 1 | 9/60 | 1,950
Child and Adult Immunization (adult family member) | 12,500 | 1 | 3/60 | 625
Family Disability (adult family member) | 21,500 | 1 | 3/60 | 1,075
Veteran Status/Service Dates (adult family member) | 43,000 | 1 | 1/60 | 717
Adult Voice, Speech, Swallowing, and Language (sample adult) | 32,500 | 1 | 4/60 | 2,167
Child Voice, Speech, Swallowing, and Language (adult family member) | 13,000 | 1 | 1/60 | 217
Family Food Security (adult family member) | 43,000 | 1 | 2/60 | 1,433
Health Care Reform (adult family member) | 43,000 | 1 | 5/60 | 3,583
Functioning and Disability (sample adult) | 16,250 | 1 | 3/60 | 813
Fitness Center Use (sample adult) | 32,500 | 1 | 1/60 | 542
Child Record Check (medical provider) | 1,500 | 1 | 5/60 | 125
Teen Record Check (medical provider) | 6,250 | 1 | 5/60 | 521
Child Mental Health (adult family member) | 13,000 | 1 | 1/60 | 217
Mental Health Services (adult Family member) | 13,000 | 1 | 3/60 | 650
Reinterview Survey | 3,900 | 1 | 5/60 | 325
Total Burden Hours |  |  |  | 40,109

Dated: July 2, 2010.
Carol Walker,
Acting Reports Clearance Officer, Centers for Disease Control and Prevention.

[FR Doc. 2010-16739 Filed 7-8-10; 8:45 am]

BILLING CODE 4163-18-P